DEPARTMENT OF TRANSPORTATION

Federal Aviation Administration

14 CFR Part 97

[Docket No. 30017; Amdt. No. 1990]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, US Government Printing Office, Washington, DC 20402.

FOR FURTHER INFORMATION CONTACT: David P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Navigation (Air).

Issued in Washington, DC on April 28, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; 97.25 LOC, LOC/DME, LDA, LDA/DME, SDF, SDF/DME; § 97.27 NDB, NDB/DME; 97.29 ILS, ILS/DME, ISMLS, MLS, MLS/DME, MLS/RNAV; § 97.31 RADAR SIAPs; § 97.33 RNAV SIAPs; and § 97.35 COPTER SIAPs, identified as follows:

Effective Upon Publication

FDC Date | State | City | Airport | FDC number | SIAP
03/13/00 | CA | Merced | Merced Muni-Macready Field | FDC 0/2479 | VOR Rwy 30 Amdt 18A...
03/24/00 | CA | Santa Maria | Santa Maria Public/Captain G. Allan Hancock Field | FDC 0/4168 | VOR OR GPS Rwy 12 AMDT 12...
04/11/00 | FL | West Palm Beach | Palm Beach Intl | FDC 0/3543 | ILS Rwy 27R, ORIG...
04/11/00 | WA | Arlington | Arlington Muni | FDC 0/3539 | LOC Rwy 34 Amdt 4...
04/11/00 | WA | Kelso | Kelso-Longview | FDC 0/3540 | NDB OR GPS-A, Amdt 5B...
04/11/00 | WA | Richland | Richland | FDC 0/3538 | VOR OR GPS Rwy 25, Amdt 6...
04/11/00 | WA | Spokane | Spokane International | FDC 0/3535 | NDB Rwy 21, Amdt 14B...
04/11/00 | WA | Spokane | Spokane International | FDC 0/3537 | ILS Rwy 21 Amdt 19...
04/12/00 | KS | Dodge City | Dodge City Regional | FDC 0/3597 | GPS Rwy 14, ORIG...
04/13/00 | CA | Fresno | Fresno Yosemite Intl | FDC 0/3652 | HI-ILS/DME 2 Rwy 29R, Amdt 5...
04/13/00 | CA | Ontario | Ontario Intl | FDC 0/3648 | ILS Rwy 26R Amdt 2...
04/13/00 | CA | Ontario | Ontario Intl | FDC 0/3650 | ILS Rwy 26L (CAT I, II, III), Amdt 7...
04/13/00 | CA | Ontario | Ontario Intl | FDC 0/3651 | ILS Rwy 8L, Amdt 7...
04/13/00 | VT | Burlington | Burlington Intl | FDC 0/3663 | ILS Rwy 15, Amdt 21C...
04/14/00 | TX | Lubbock | Lubbock Intl | FDC 0/3711 | VOR/DME OR TA-CAN Rwy 26, Amdt 10A...
04/17/00 | FL | Orlando | Orlando Intl | FDC 0/3795 | ILS Rwy 17 (CAT I, CAT II), Amdt 2...
04/17/00 | FL | Orlando | Orlando Intl | FDC 0/3796 | ILS Rwy 35 (CAT I, CAT II, CAT III), Amdt 3...
04/17/00 | MO | Kansas City | Kansas City Downtown | FDC 0/3799 | ILS Rwy 19 Amdt 20D...
04/18/00 | SC | Walterboro | Lowcountry Regional | FDC 0/3821 | GPS Rwy 5 ORIG...
04/18/00 | VT | Burlington | Burlington Intl | FDC 0/3839 | NDB OR GPS Rwy 15 Amdt 19B...
04/18/00 | WA | Spokane | Spokane International | FDC 0/3823 | VOR/DME RNAV OR GPS Rwy 21, ORIG...
04/19/00 | FL | Fort Lauderdale | Fort Lauderdale-Hollywood Intl | FDC 0/3882 | RADAR-1, Amdt 4...
04/19/00 | TN | Knoxville | McGhee-Tyson | FDC 0/3877 | VOR OR GPS Rwy 23L, Amdt 4...
04/19/00 | TN | Knoxville | McGhee-Tyson | FDC 0/3878 | VOR OR GPS Rwy 23R, Amdt 6...
04/19/00 | TX | Lockhart | Lockhart Muni | FDC 0/3873 | GPS Rwy 36, ORIG-A...
04/20/00 | FL | Apalachicola | Apalachicola Muni | FDC 0/4012 | RNAV Rwy 13, ORIG...
04/20/00 | FL | Apalachicola | Apalachicola Muni | FDC 0/4013 | RNAV Rwy 31, ORIG...
04/20/00 | FL | Lake City | Lake City Muni | FDC 0/4027 | RNAV Rwy 10, ORIG...
04/20/00 | FL | Lake City | Lake City Muni | FDC 0/4028 | RNAV Rwy 28, ORIG...
04/20/00 | FL | Orlando | Orlando Sanford | FDC 0/4014 | RNAV Rwy 9L, ORIG...
04/20/00 | FL | Orlando | Orlando Sanford | FDC 0/4015 | RNAV Rwy 27R, ORIG...
04/20/00 | IA | Dubuque | Dubuque Regional | FDC 0/3921 | LOC/DME BC Rwy 13, Amdt 5...
04/20/00 | IA | Fort Dodge | Fort Dodge Regional | FDC 0/3915 | VOR/DME OR GPS Rwy 30, Amdt 9B...
04/20/00 | IA | Ottumwa | Ottumwa Industrial | FDC 0/3914 | VOR/DME OR GPS Rwy 13, Amdt 6B...
04/20/00 | IL | Belleville | Scott AFB/MidAmerica | FDC 0/3948 | RNAV Rwy 14R, ORIG...
04/20/00 | IL | Belleville | Scott AFB/MidAmerica | FDC 0/3949 | RNAV Rwy 32L, ORIG...
04/20/00 | IL | Chicago/Aurora | Aurora Muni | FDC 0/3946 | VOR-A, Amdt 2...
04/20/00 | IL | Lawrenceville | Lawrenceville-Vincennes Intl | FDC 0/3989 | RNAV Rwy 36, ORIG...
04/20/00 | IL | Lawrenceville | Lawrenceville-Vincennes Intl | FDC 0/3991 | RNAV Rwy 27, ORIG...
04/20/00 | IL | Lawrenceville | Lawrenceville-Vincennes Intl | FDC 0/3992 | RNAV Rwy 18, ORIG...
04/20/00 | IL | Lawrenceville | Lawrenceville-Vincennes Intl | FDC 0/3993 | RNAV Rwy 9, ORIG...
04/20/00 | KS | Gardner | Gardner Muni | FDC 0/3917 | NDB OR GPS-D, Amdt 2...
04/20/00 | KS | Hutchinson | Hutchinson Muni | FDC 0/3922 | LOC BC Rwy 31, Amdt 14A...
04/20/00 | KS | Olathe | Johnson County Executive | FDC 0/3916 | NDB OR GPS-B, Amdt 2B...
04/20/00 | KS | Olathe | New Century Aircenter | FDC 0/3964 | RNAV Rwy 17, ORIG...
04/20/00 | KS | Olathe | New Century Aircenter | FDC 0/3965 | RNAV Rwy 35, ORIG...
04/20/00 | MD | Salisbury | Salisbury-Ocean City Wicomico Regional | FDC 0/3955 | RNAV Rwy 32, ORIG...
04/20/00 | MD | Salisbury | Salisbury-Ocean City Wicomico Regional | FDC 0/3956 | RNAV Rwy 14, ORIG...
04/20/00 | MD | Salisbury | Salisbury-Ocean City Wicomico Regional | FDC 0/3957 | RNAV Rwy 5, ORIG...
04/20/00 | MD | Salisbury | Salisbury-Ocean City Wicomico Regional | FDC 0/3958 | RNAV Rwy 23, ORIG...
04/20/00 | MN | Bemidji | Bemidji-Beltrami County | FDC 0/3988 | RNAV Rwy 31, ORIG...
04/20/00 | MO | Fredericktown | Fredericktown Regional | FDC 0/4021 | RNAV Rwy 19, ORIG...
04/20/00 | MO | Fredericktown | Fredericktown Regional | FDC 0/4024 | VOR Rwy 19, Amdt 1...
04/20/00 | NC | Gastonia | Gastonia Muni | FDC 0/3982 | RNAV Rwy 3, ORIG...
04/20/00 | NC | Kinston | Kinston Regional Jetport at Stallings Field | FDC 0/3981 | RNAV Rwy 5, ORIG...
04/20/00 | NE | Crete | Crete Muni | FDC 0/4020 | VOR/DME OR GPS Rwy 17, Amdt 3...
04/20/00 | NJ | Atlantic City | Atlantic City Intl | FDC 0/3944 | RNAV Rwy 13, ORIG-A...
04/20/00 | PA | Butler | Butler County/K.W. Scholter Field | FDC 0/3959 | GPS Rwy 8, ORIG...
04/20/00 | PA | Monongahela | Rostraver | FDC 0/3970 | VOR OR GPS-A Amdt 4B...
04/20/00 | PA | Pittsburgh | Allegheny County | FDC 0/3941 | RNAV Rwy 5 ORIG...
04/20/00 | PA | Pittsburgh | Allegheny County | FDC 0/3943 | RNAV Rwy 28 ORIG...
04/20/00 | PA | Pittsburgh | Allegheny County | FDC 0/4004 | RNAV Rwy 10 ORIG...
04/20/00 | PA | Pittsburgh | Pittsburgh Intl | FDC 0/3934 | RNAV Rwy 10R ORIG...
04/20/00 | PA | Pittsburgh | Pittsburgh Intl | FDC 0/3935 | RNAV Rwy 10C ORIG...
04/20/00 | PA | Pittsburgh | Pittsburgh Intl | FDC 0/3936 | RNAV Rwy 28L ORIG...
04/20/00 | PA | Pittsburgh | Pittsburgh Intl | FDC 0/3937 | RNAV Rwy 28R ORIG...
04/20/00 | PA | Pittsburgh | Pittsburgh Intl | FDC 0/3938 | RNAV Rwy 28C ORIG...
04/20/00 | PA | Pittsburgh | Pittsburgh Intl | FDC 0/3939 | ILS Rwy 28L Amdt 7...
04/20/00 | PA | Pittsburgh | Pittsburgh Intl | FDC 0/3940 | ILS Rwy 10R Amdt 9...
04/20/00 | PA | Pittsburgh | Pittsburgh Intl | FDC 0/3975 | RNAV Rwy 32 ORIG...
04/20/00 | PA | Pittsburgh | Pittsburgh Intl | FDC 0/3976 | RNAV Rwy 14 ORIG...
04/20/00 | PA | Pittsburgh | Pittsburgh Intl | FDC 0/3977 | RNAV Rwy 10L ORIG...
04/20/00 | PA | Washington | Washington County | FDC 0/3945 | VOR OR GPS-B Amdt 6B...
04/20/00 | VA | Charlottesville | Charlottesville-Albemarle | FDC 0/3953 | RNAV Rwy 3 ORIG-A...
04/20/00 | WV | Morgantown | Morgantown Muni-Walter L. Bill Hart Field | FDC 0/3968 | RNAV Rwy 18 ORIG-A...
04/21/00 | AR | Monticello | Monticello Muni/Ellis Field | FDC 0/4116 | VOR-A, Amdt 5A...
04/21/00 | AR | Morrilton | Petit Jean Park | FDC 0/4117 | GPS Rwy 2, ORIG...
04/21/00 | AZ | Fort Huachuca-Sierra Vista | Sierra Vista Muni-Libby AAF | FDC 0/4035 | NDB Rwy 26 Amdt 3...
04/21/00 | AZ | Fort Huachuca-Sierra Vista | Sierra Vista Muni-Libby AAF | FDC 0/4036 | VOR Rwy 26 Amdt 3...
04/21/00 | AZ | Fort Huachuca-Sierra Vista | Sierra Vista Muni-Libby AAF | FDC 0/4037 | ILS Rwy 26 Amdt 2...
04/21/00 | AZ | Fort Huachuca-Sierra Vista | Sierra Vista Muni-Libby AAF | FDC 0/4038 | GPS Rwy 26 ORIG...
04/21/00 | AZ | Fort Huachuca-Sierra Vista | Sierra Vista Muni-Libby AAF | FDC 0/4040 | GPS Rwy 8 ORIG-A...
04/21/00 | CA | Palo Alto | Palo Alto Airport of Santa Clara County | FDC 0/4098 | VOR/DME 30 ORIG...
04/21/00 | CA | Palo Alto | Palo Alto Airport of Santa Clara County | FDC 0/4099 | GPS Rwy 30 Amdt 1A...
04/21/00 | FL | Jacksonville | Herlong | FDC 0/4072 | NDB-A, ORIG...
04/21/00 | FL | Jacksonville | Jacksonville Intl | FDC 0/4073 | ILS Rwy 25, ORIG-B...
04/21/00 | FL | Jacksonville | Jacksonville Intl | FDC 0/4074 | HI-ILS Rwy 7, Amdt 3...
04/21/00 | FL | Jacksonville | Jacksonville Intl | FDC 0/4075 | ILS Rwy 7 (CAT I, II, III), Amdt 12B...
04/21/00 | FL | Jacksonville | Jacksonville Intl | FDC 0/4076 | NDB OR GPS Rwy 7, Amdt 9B...
04/21/00 | FL | Melbourne | Melbourne Intl | FDC 0/4078 | GPS Rwy 9L ORIG-C...
04/21/00 | FL | Orlando | Executive | FDC 0/4070 | VOR/DME Rwy 7 ORIG-A...
04/21/00 | FL | Orlando | Executive | FDC 0/4071 | NDB Rwy 7 Amdt 15A...
04/21/00 | LA | New Orleans | New Orleans Intl (Moisant Field) | FDC 0/4049 | GPS Rwy 28, ORIG-A...
04/21/00 | MI | Coldwater | Branch County Memorial | FDC 0/4105 | RNAY Rwy 6 ORIG...
04/21/00 | MO | Fredericktown | Fredericktown Regional | FDC 0/4054 | RNAV Rwy 1, ORIG...
04/21/00 | MO | Fredericktown | Fredericktown Regional | FDC 0/4056 | VOR/DME Rwy 1, Amdt 3...
04/21/00 | ND | Bismarck | Bismarck Muni | FDC 0/4103 | RNAV Rwy 3, ORIG...
04/21/00 | ND | Bismarck | Bismarck Muni | FDC 0/4104 | RNAV Rwy 21, ORIG...
04/21/00 | NY | Sidney | Sidney Muni | FDC 0/4081 | RNAV Rwy 25, ORIG...
04/21/00 | OR | Pendleton | Eastern Oregon Regional at Pendleton | FDC 0/4127 | VOR OR GPS Rwy 7, Amdt 14A...
04/21/00 | OR | Salem | McNary Field | FDC 0/4124 | NDB OR GPS Rwy 31, Amdt 18B...
04/21/00 | UT | Salt Lake City Intl | Salt Lake City | FDC 0/4112 | ILS Rwy 17, Amdt 10A...
04/21/00 | UT | Salt Lake City Intl | Salt Lake City | FDC 0/4115 | ILS Rwy 35, Amdt 1A ...
04/24/00 | CA | Carlsbad | McClellan-Palomar | FDC 0/4160 | ILS Rwy 24, Amdt 8A...
04/24/00 | CA | Santa Maria | Santa Maria Public/Captain G. Allan Hancock Field | FDC 0/4166 | ILS Rwy 12, Amdt 9A...
04/24/00 | CA | Santa Maria | Santa Maria Public/Captain G. Allan Hancock Field | FDC 0/4167 | LOC/DME BC-A Amdt 10A...
04/24/00 | IL | Peru | Illinois Valley Regional-Walter A. Duncan Field | FDC 0/4178 | LOC Rwy 36, Amdt 2...
04/24/00 | IN | Richmond | Richmond Muni | FDC 0/4180 | ILS Rwy 24, ORIG-A...
04/24/00 | MID | Sand Island | Henderson Field | FDC 0/4172 | AY ATOLL, MQ. GPS Rwy 24 ORIG...
04/24/00 | MID | Sand Island | Henderson Field | FDC 0/4198 | AY ATOLL, MQ. GPS Rwy 06 ORIG...
04/24/00 | MP | /Rota Island | Rota Intl | FDC 0/4171 | GPS Rwy 27 ORIG...
04/25/00 | CA | Burbank | Burbank-Glendale-Pasadena | FDC 0/4208 | LOC Rwy 8, Amdt 2A...
04/25/00 | CA | Burbank | Burbank-Glendale-Pasadena | FDC 0/4209 | ILS Rwy 8, Amdt 35A...
04/25/00 | CA | Burbank | Burbank-Glendale-Pasadena | FDC 0/4210 | VOR OR GPS Rwy 8, Amdt 10A...
04/25/00 | CA | Burbank | Burbank-Glendale-Pasadena | FDC 0/4211 | NDB Rwy 8, Amdt 2A...
04/25/00 | CA | Santa Ynez | Santa Ynez | FDC 0/4190 | VOR OR GPS-B, Amdt 7C...
04/25/00 | FL | Jacksonville | Jacksonville Intl | FDC 0/4192 | NDB Rwy 31, ORIG-B...
04/25/00 | OK | Clinton | Clinton-Sherman | FDC 0/4223 | VOR Rwy 35L, Amdt 11A...
04/26/00 | MA | Boston | General Edward Lawrence Logan Intl | FDC 0/4245 | RNAV Rwy 4R, ORIG-A...
04/26/00 | MA | Mansfield | Mansfield Muni | FDC 0/4244 | NDB Rwy 32, Amdt 6B...
04/26/00 | OK | Ardmore | Ardmore Muni | FDC 0/4273 | VOR-B, ORIG-A...
04/26/00 | PA | Latrobe | Arnold Palmer Regional | FDC 0/4269 | NDB Rwy 23, Amdt 13A...
04/26/00 | PA | Latrobe | Arnold Palmer Regional | FDC 0/4297 | ILS Rwy 23, Amdt 15A...
04/26/00 | PA | Pittsburgh | Pittsburgh Intl | FDC 0/4256 | CONVERGING ILS Rwy 32 Amdt 3...
04/26/00 | TX | Houston | George Bush Intercontinental Airport/Houston | FDC 0/4292 | ILS Rwy 8, Amdt 18G...
04/26/00 | TX | Houston | George Bush Intercontinental Airport/Houston | FDC 0/4293 | GPS Rwy 8, ORIG...
04/26/00 | TX | McAllen | McAllen Miller Intl | FDC 0/4280 | LOC BC Rwy 31, Amdt 9B...

[FR Doc. 00-11163 Filed 5-3-00; 8:45 am]

BILLING CODE 4910-13-M